DEPARTMENT OF HEALTH AND HUMAN SERVICES

National Institutes of Health

Collaborative Workshop on Aquatic Models and 21st Century Toxicology; Notice of Public Meeting and Registration Information

SUMMARY: The National Toxicology Program (NTP) Interagency Center for the Evaluation of Alternative Toxicological Methods (NICEATM) announces a “Collaborative Workshop on Aquatic Models and 21st Century Toxicology.” The workshop proposes to explore and discuss how small aquarium fish species may be used as model organisms to screen and prioritize compounds for further in vivo testing and assess mechanisms of chemical toxicity. Discussions will focus on the application of these models to the field of environmental health while leveraging the techniques and knowledge of broad-based, interdisciplinary research.

DATES: Meeting: May 5-6, 2014, from 8:00 a.m. to approximately 5:00 p.m. Eastern Daylight Time (EDT) on May 5 and 8:00 a.m. to approximately 4:15 p.m. EDT on May 6. A poster session will be held on May 5.

Meeting Registration: Registration is open through April 25, 2014.

ADDRESSES: Meeting Location: James B. Hunt Jr. Library, Centennial Campus, North Carolina State University (NCSU), 1070 Partners Way, Raleigh, NC 27606.

Meeting Web page: The preliminary agenda, registration, and other meeting materials are at http://ntp.niehs.nih.gov/go/41308.

FOR FURTHER INFORMATION CONTACT: Dr. Warren S. Casey, Director, NICEATM; email: warren.casey@nih.gov; telephone: (919) 316-4729.

SUPPLEMENTARY INFORMATION: Background: The need to screen thousands of environmental chemicals for their potential effects on human health has propelled the use of high-throughput cell-based screens to the forefront of toxicology. Key to the use of these screens is the availability of model organisms that recapitulate human development, physiology, and disease processes while avoiding the limitations of current rodent-based models.

Incorporating small aquarium fish models into modern toxicological investigations could yield significant scientific and economic benefits. This workshop highlights the potential of these organisms in toxicological research and enables scientists to discuss strategies for leveraging aquatic models in understanding the role of environmental exposures on human health.

The workshop is cosponsored by the NTP and NCSU; the organizing committee includes members from the NTP, NCSU, the National Institute of Environmental Health Sciences, the U.S. Food and Drug Administration, the U.S. Environmental Protection Agency, and Duke University.

Preliminary Agenda and Other Meeting Information: A preliminary agenda and additional information are available at http://ntp.niehs.nih.gov/go/41308.

Meeting and Registration: This meeting is open to the public, free of charge, with attendance limited only by the space available. Individuals who plan to attend should register on the NTP Web site (http://ntp.niehs.nih.gov/go/41308) by April 25, 2014, to facilitate meeting planning. Interested individuals are encouraged to visit this Web page to stay abreast of the most current information about the meeting.

Information for visitors to the Hunt Library is available at http://www.lib.ncsu.edu/huntlibrary. Individuals with disabilities who need accommodation to participate in this event should contact Dr. Elizabeth Maull at phone: (919) 316-4668 or email: maull@niehs.nih.gov. TTY users should contact the Federal TTY Relay Service at 800-877-8339. Requests should be made at least five business days in advance of the event.

Background Information on NICEATM: NICEATM conducts data analyses, workshops, independent validation studies, and other activities to assess new, revised, and alternative test methods and strategies and provides support for the Interagency Coordinating Committee on the Validation of Alternative Methods (ICCVAM). The ICCVAM Authorization Act of 2000 (42 U.S.C. 285l-3) provides authority for ICCVAM and NICEATM in the development of alternative test methods. Information about NICEATM and ICCVAM is found at http://ntp.niehs.nih.gov/go/niceatm and http://ntp.niehs.nih.gov/go/iccvam.

Dated: April 3, 2014.
John R. Bucher,
Associate Director, National Toxicology Program.

[FR Doc. 2014-08082 Filed 4-10-14; 8:45 am]

BILLING CODE 4140-01-P